ENVIRONMENTAL PROTECTION AGENCY

[FRL-7609-5]

Notice of Proposed Administrative Settlement Pursuant to the Comprehensive Environmental Response, Compensation, and Liability Act

AGENCY: Environmental Protection Agency (EPA).

ACTION: Notice; request for public comment.

SUMMARY: In accordance with section 122(h)(1) of the Comprehensive Environmental Response, Compensation, and Liability Act, as amended (“CERCLA”), 42 U.S.C. 6922(h)(1), notice is hereby given of a proposed administrative settlement concerning the Service Waste Inc. Superfund removal site, located two miles outside the city of Mansfield, Johnson County, Texas, with the parties referenced in the SUPPLEMENTARY INFORMATION portion of this notice.

The settlement requires the settling parties to pay a total of $181,926.84 for reimbursement of past response costs, plus interest, to the EPA Hazardous Substance Superfund. Within 30 days of the effective date of this agreement, the settling parties shall pay an initial payment of $11,926.84, the settling parties shall pay three yearly installments plus interest on the unpaid balance. The first installment of $50,000 plus interest will be due on or before November 30, 2004. The second installment of $60,000.00 plus interest will be due on or before November 30, 2005. The third and final installment of $60,000.00 plus interest will be due on or before November 30, 2006. EPA will bill the installments annually and payment is due within 30 days of the bill. The initial payment, installments, and any interest shall be deposited in the EPA Hazardous Substance Superfund. The settlement includes a covenant not to sue pursuant to sections 106(b)(2), 107, 111, 112, and 113 of CERCLA, 42 U.S.C. 9606(b)(2), 9607, 9611, 9612, or 9613, any claims arising out of the response actions at the Site for which the past response costs were incurred; and pursuant to sections 107 and 113 of CERCLA, 42 U.S.C. 9607 and 9613, relating to past response costs.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before February 12, 2004.

ADDRESSES: The proposed settlement and additional background information relating to the settlement are available for public inspection at 1445 Ross Avenue, Dallas, Texas 75202-2733. A copy of the proposed settlement may be obtained from Janice Bivens, 1445 Ross Avenue, Dallas, Texas 75202-2733 at (214) 665-6717. Comments should reference Service Waste Inc. Superfund Site, Mansfield, Texas, EPA Docket Number 06-02-04 and should be addressed to Janice Bivens at the address listed above.

FOR FURTHER INFORMATION CONTACT: Barbara Nann, 1445 Ross Avenue, Dallas, Texas 75202-2733 at (214) 665-2157.

SUPPLEMENTARY INFORMATION:

List of Settling Parties

1. Service Waste Inc.

2. Pan American Wire, Inc.

3. Southwest Paperstock, Inc.

4. Robert F. Dunlap, Sr.

Dated: December 31, 2003.
Richard E. Greene,
Acting Regional Administrator, Region 6.

[FR Doc. 04-708 Filed 1-12-04; 8:45 am]

BILLING CODE 6560-50-P